DEPARTMENT OF ENERGY

Federal Energy Regulatory Commission

[Docket No. CP09-426-000]

Northwest Pipeline GP; Notice of Request Under Blanket Authorization

June 5, 2009.

Take notice that on June 2, 2009, Northwest Pipeline GP (Northwest), P.O. Box 58900, Salt Lake City, Utah 84158-0900, filed in Docket No. CP09-426-000, an application, pursuant to sections 157.205 and 157.210 of the Commission's Regulations under the Natural Gas Act (NGA) as amended, to install pipeline looping at Northwest's Plymouth compressor station in Benton County, Washington, under Northwest's blanket certificate issued in Docket No. CP82-433-000,¹ all as more fully set forth in the application which is on file with the Commission and open to the public for inspection.

¹ 20 FERC ¶ 62,412 (1982).

Northwest proposes to install approximately 3,500 feet of 24-inch diameter pipeline looping and associated bypass piping and appurtenances at the Plymouth compressor station in Benton County. Northwest states that the proposed facilities would provide an additional 10,000 Dekatherms per day (Dth/d) of firm transportation capacity between Northwest's Stanfield interconnect with Gas Transmission Northwest Corporation (GTN) located in Umatilla County, Oregon, and the Plymouth compressor station. Northwest states that it would finance the estimated $1,634,662 construction cost of the proposed facilities with funds on hand.

Any questions concerning this application may be directed to Lynn Dalberg, Manager, Certificates and Tariffs, Northwest Pipeline GP, P.O. Box 58900, Salt Lake City, Utah 84158, telephone at (801) 584-6851, facsimile at (801) 584-7764, or via e-mail: ldalhber@williams.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Kimberly D. Bose,
Secretary.

[FR Doc. E9-13788 Filed 6-11-09; 8:45 am]

BILLING CODE 6717-01-P